DEPARTMENT OF TRANSPORTATION

Office of the Secretary

Aviation Proceedings, Agreements Filed the Week Ending December 19, 2009.

The following Agreements were filed with the Department of Transportation under Sections 412 and 414 of the Federal Aviation Act, as amended (49 U.S.C. 1382 and 1384) and procedures governing proceedings to enforce these provisions. Answers may be filed within 21 days after the filing of the application.

Docket Number: DOT-OST-2009-0343.

Date Filed: December 16, 2009.

Parties: Members of the International Air Transport Association.

Subject:

TC3 Special Passenger Amending Resolution 010k between Japan, Korea (Rep. of) and China (excluding Hong Kong SAR and Macao SAR), and between Japan and Korea (Rep. of) (Memo 1342)

Intended effective date: 15 January 2010.

Docket Number: DOT-OST-2009-0346.

Date Filed: December 16, 2009.

Parties: Members of the International Air Transport Association.

Subject:

TC3 Areawide Revalidating Resolution 002, (Memo 1343)

Intended effective date: 1 April 2010.

Barbara J. Hairston,
Supervisory Dockets Officer, Docket Operations, Federal Register Liaison.

[FR Doc. 2010-133 Filed 1-7-10; 8:45 am]

BILLING CODE 4910-62-P